INTERNATIONAL TRADE COMMISSION

[Investigation No. 731-TA-696 (Fifth Review)]

Pure Magnesium From China

Determination

On the basis of the record ¹ developed in the subject five-year review, the United States International Trade Commission (“Commission”) determines, pursuant to the Tariff Act of 1930 (“the Act”), that revocation of the antidumping duty order on pure magnesium from China would be likely to lead to continuation or recurrence of material injury to an industry in the United States within a reasonably foreseeable time.²

¹ The record is defined in § 207.2(f) of the Commission's Rules of Practice and Procedure (19 CFR 207.2(f)).

² Commissioner Randolph J. Stayin did not participate.

Background

The Commission instituted this review on March 1, 2022 (87 FR 11472) and determined on June 6, 2022 that it would conduct a full review (87 FR 35997, June 14, 2022). Notice of the scheduling of the Commission's review and of a public hearing to be held in connection therewith was given by posting copies of the notice in the Office of the Secretary, U.S. International Trade Commission, Washington, DC, and by publishing the notice in the Federal Register on October 27, 2022 (87 FR 65822, November 1, 2022). The Commission conducted its hearing on March 14, 2023. All persons who requested the opportunity were permitted to participate.

The Commission made this determination pursuant to section 751(c) of the Act (19 U.S.C. 1675(c)). It completed and filed its determination in this review on May 15, 2023. The views of the Commission are contained in USITC Publication 5420 (May 2023), entitled Pure Magnesium from China: Investigation No. 731-TA-696 (Fifth Review).

By order of the Commission.
Issued: May 15, 2023.
Lisa Barton,
Secretary to the Commission.

[FR Doc. 2023-10673 Filed 5-18-23; 8:45 am]

BILLING CODE 7020-02-P